DEPARTMENT OF ENERGY

Federal Energy Regulatory Commission

[Docket No. RP03-573-000]

PG&E Gas Transmission, Northwest Corporation; Notice of Tariff Filing

August 25, 2003.

Take notice that on August 15, 2003, PG&E Transmission, Northwest Corporation, (GTN) as part of its FERC Gas Tariff, Second Revised Volume No. 1, the following tariff sheets, with an effective date of September 15, 2003:

Fourth Revised Sheet No. 6.

Second Revised Sheet No. 211.

Second Revised Sheet no. 212.

Original Sheet No. 229.

GTN states that the filing is being made to establish a mechanism that will allow GTN's incremental fuel rate, established in conjunction with GTN's 2002 Pipeline Expansion Project, to roll down over time.

GTN states that copies of the filing have been served on GTN's jurisdictional customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with the comment date below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 29, 2003.

Linda Mitry,
Acting Secretary.

[FR Doc. 03-22221 Filed 8-29-03; 8:45 am]

BILLING CODE 6717-01-P